DEPARTMENT OF ENERGY

Federal Energy Regulatory Commission

Combined Notice of Filings #1

Take notice that the Commission received the following electric corporate filings:

Docket Numbers: EC21-21-000.

Applicants: North Fork Ridge Wind, LLC, The Empire District Electric Company.

Description: Supplement to Application of North Fork Ridge Wind, LLC, and The Empire District Electric Company.

Filed Date: 12/11/20.

Accession Number: 20201211-5133.

Comments Due: 5 p.m. ET 1/4/21.

Docket Numbers: EC21-27-000.

Applicants: Neosho Ridge Wind, LLC, The Empire District Electric Company.

Description: Supplement to Application of Neosho Ridge Wind, LLC, and The Empire District Electric Company.

Filed Date: 12/11/20.

Accession Number: 20201211-5135.

Comments Due: 5 p.m. ET 1/4/21.

Take notice that the Commission received the following exempt wholesale generator filings:

Docket Numbers: EG21-52-000.

Applicants: Harry Allen Solar Energy LLC.

Description: Notice of Self-Certification of Exempt Wholesale Generator Status of Harry Allen Solar Energy LLC.

Filed Date: 12/11/20.

Accession Number: 20201211-5062.

Comments Due: 5 p.m. ET 1/4/21.

Take notice that the Commission received the following electric rate filings:

Docket Numbers: ER19-2846-003.

Applicants: Trans Bay Cable LLC.

Description: Compliance filing: Compliance filing for Docket ER19-2846 to be effective 4/23/2020.

Filed Date: 12/11/20.

Accession Number: 20201211-5071.

Comments Due: 5 p.m. ET 1/4/21.

Docket Numbers: ER20-1087-001.

Applicants: New England Electric Transmission Corporation.

Description: Compliance filing: Amended Order No. 864 Compliance Filing to be effective 1/27/2020.

Filed Date: 12/11/20.

Accession Number: 20201211-5161.

Comments Due: 5 p.m. ET 1/4/21.

Docket Numbers: ER20-1088-001.

Applicants: New England Hydro Transmission Electric.

Description: Compliance filing: Amended Order No. 864 Compliance Filing to be effective 1/27/2020.

Filed Date: 12/11/20.

Accession Number: 20201211-5162.

Comments Due: 5 p.m. ET 1/4/21.

Docket Numbers: ER20-1089-001.

Applicants: New England Hydro Transmission Corporation.

Description: Compliance filing: Amended Order No. 864 Compliance Filing to be effective 1/27/2020.

Filed Date: 12/11/20.

Accession Number: 20201211-5166.

Comments Due: 5 p.m. ET 1/4/21.

Docket Numbers: ER20-1720-002.

Applicants: Southern California Edison Company.

Description: Compliance filing: SCE Response to Deficiency Letter Docket No. ER20-1720-001 to be effective N/A.

Filed Date: 12/11/20.

Accession Number: 20201211-5115.

Comments Due: 5 p.m. ET 1/4/21.

Docket Numbers: ER20-1742-001.

Applicants: San Diego Gas & Electric Company.

Description: Compliance filing: Order No. 864 Compliance Filing to be effective 1/27/2020.

Filed Date: 12/11/20.

Accession Number: 20201211-5083.

Comments Due: 5 p.m. ET 1/4/21.

Docket Numbers: ER20-1828-001.

Applicants: PacifiCorp.

Description: Compliance filing: OATT Order 864—Directive 10/28/2020 to be effective N/A.

Filed Date: 12/11/20.

Accession Number: 20201211-5102.

Comments Due: 5 p.m. ET 1/4/21.

Docket Numbers: ER20-2916-002.

Applicants: Alabama Power Company.

Description: Tariff Amendment: Amendment to Bird Dog Solar LGIA Termination Filing (Request to Defer Action) to be effective 9/18/2020.

Filed Date: 12/11/20.

Accession Number: 20201211-5113.

Comments Due: 5 p.m. ET 1/4/21.

Docket Numbers: ER21-223-001.

Applicants: Union Electric Company.

Description: Tariff Amendment: Request to Defer Action to be effective 12/31/9998.

Filed Date: 12/11/20.

Accession Number: 20201211-5152.

Comments Due: 5 p.m. ET 1/4/21.

Docket Numbers: ER21-252-001.

Applicants: Duke Energy Florida, LLC.

Description: Tariff Amendment: Errata—DEF Rate Schedule No. 226 to be effective 1/1/2021.

Filed Date: 12/10/20.

Accession Number: 20201210-5169.

Comments Due: 5 p.m. ET 12/16/20.

Docket Numbers: ER21-622-000.

Applicants: Black Hills Power, Inc.

Description: § 205(d) Rate Filing: WAPA BA Agreement to be effective 12/31/2020.

Filed Date: 12/10/20.

Accession Number: 20201210-5156.

Comments Due: 5 p.m. ET 12/31/20.

Docket Numbers: ER21-623-000.

Applicants: Cheyenne Light, Fuel and Power Company.

Description: § 205(d) Rate Filing: WAPA BA Agreement Concurrence to be effective 12/31/2020.

Filed Date: 12/10/20.

Accession Number: 20201210-5164.

Comments Due: 5 p.m. ET 12/31/20.

Docket Numbers: ER21-624-000.

Applicants: Florida Power & Light Company.

Description: § 205(d) Rate Filing: FPL Reactive Service Rate Reduction for Transmission Service Agreements to be effective 12/1/2020.

Filed Date: 12/11/20.

Accession Number: 20201211-5000.

Comments Due: 5 p.m. ET 1/4/21.

Docket Numbers: ER21-625-000.

Applicants: New York Independent System Operator, Inc.

Description: § 205(d) Rate Filing: NYISO 205 filing re: SENY Reserve enhancements to be effective 12/31/9998.

Filed Date: 12/11/20.

Accession Number: 20201211-5002.

Comments Due: 5 p.m. ET 1/4/21.

Docket Numbers: ER21-626-000.

Applicants: PacifiCorp.

Description: Notice of Termination of Long-Term Power Transaction Agreement of PacifiCorp.

Filed Date: 12/10/20.

Accession Number: 20201210-5183.

Comments Due: 5 p.m. ET 12/31/20.

Docket Numbers: ER21-627-000.

Applicants: Dry Lake Solar Holdings LLC.

Description: Baseline eTariff Filing: Application for Market-Based Rate Authorization to be effective 2/10/2021.

Filed Date: 12/11/20.

Accession Number: 20201211-5047.

Comments Due: 5 p.m. ET 1/4/21.

Docket Numbers: ER21-628-000.

Applicants: Harry Allen Solar Energy LLC.

Description: Baseline eTariff Filing: Application for Market-Based Rate Authorization to be effective 2/10/2021.

Filed Date: 12/11/20.

Accession Number: 20201211-5049.

Comments Due: 5 p.m. ET 1/4/21.

Docket Numbers: ER21-629-000.

Applicants: PJM Interconnection, L.L.C.

Description: Tariff Cancellation: Notice of Cancellation of ISA, SA No. 4872; Queue No. AA2-132 to be effective 12/6/2020.

Filed Date: 12/11/20.

Accession Number: 20201211-5068.

Comments Due: 5 p.m. ET 1/4/21.

Docket Numbers: ER21-630-000.

Applicants: 325MK 8ME LLC.

Description: Baseline eTariff Filing: 325MK 8ME LLC MBR Tariff to be effective 12/14/2020.

Filed Date: 12/11/20.

Accession Number: 20201211-5094.

Comments Due: 5 p.m. ET 1/4/21.

Docket Numbers: ER21-631-000.

Applicants: Southern California Edison Company.

Description: Tariff Cancellation: Notice of Termination County of Orange SA Nos. 23 & 118 WDT040 to be effective 1/30/2021.

Filed Date: 12/11/20.

Accession Number: 20201211-5098.

Comments Due: 5 p.m. ET 1/4/21.

Docket Numbers: ER21-632-000.

Applicants: Toms River Merchant Solar, LLC.

Description: Baseline eTariff Filing: Market-Based Rate Application to be effective 2/1/2021.

Filed Date: 12/11/20.

Accession Number: 20201211-5114.

Comments Due: 5 p.m. ET 1/4/21.

Docket Numbers: ER21-633-000.

Applicants: Alabama Power Company.

Description: § 205(d) Rate Filing: Vogtle 3 & 4 LGIA Amendment Filing to be effective 11/19/2020.

Filed Date: 12/11/20.

Accession Number: 20201211-5117.

Comments Due: 5 p.m. ET 1/4/21.

Docket Numbers: ER21-634-000.

Applicants: PJM Interconnection, L.L.C.

Description: § 205(d) Rate Filing: Amendment to ISA/ICSA; Queue No. AE1-142 to be effective 1/7/2020.

Filed Date: 12/11/20.

Accession Number: 20201211-5121.

Comments Due: 5 p.m. ET 1/4/21.

Take notice that the Commission received the following qualifying facility filings:

Docket Numbers: QF21-222-000.

Applicants: Board of Trustees of Michigan State University.

Description: Form 556 of Board of Trustees of Michigan State University.

Filed Date: 12/7/20.

Accession Number: 20201207-5182.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2020.
Kimberly D. Bose,
Secretary.

[FR Doc. 2020-27800 Filed 12-16-20; 8:45 am]

BILLING CODE 6717-01-P